FEDERAL RESERVE SYSTEM

Notice of Proposals To Engage in or To Acquire Companies Engaged in Permissible Nonbanking Activities

The companies listed in this notice have given notice under section 4 of the Bank Holding Company Act (12 U.S.C. 1843) (BHC Act) and Regulation Y, (12 CFR part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act.

Unless otherwise noted, comments regarding the applications must be received at the Reserve Bank indicated or the offices of the Board of Governors not later than March 11, 2015.

A. Federal Reserve Bank of Boston (Richard Walker, Community Affairs Officer) 600 Atlantic Avenue, Boston, Massachusetts 02210-2204.

1. New Hampshire Mutual Bancorp, Manchester, New Hampshire (MHC), to establish MillRiver Trust Company, Concord, New Hampshire (MillRiver), and transfer the existing trust business from MHC's subsidiary banks, Merrimack County Savings Bank, Concord, New Hampshire and Meredith Village Savings Bank, Meredith, New Hampshire to MillRiver, and thereby engage in trust company, financial advisory and transaction activities, and the sale of insurance in a town of less than 5,000 in population, pursuant to sections 225.28(b)(5), (b)(6), (b)(7) and (b)(11)(iii)(A) of Regulation Y.

B. Federal Reserve Bank of Atlanta (Chapelle Davis, Assistant Vice President) 1000 Peachtree Street NE., Atlanta, Georgia 30309:

1. First NBC Bank Holding Company, New Orleans, Louisiana; to acquire 100 percent of the outstanding shares of State Investors Bancorp, Inc. and its subsidiary bank, State-Investors Bank both of Metairie, Louisiana, and thereby engage in operating a savings association, pursuant to section 225.28(b)(4)(ii) of Regulation Y. Comment regarding this application must be received by March 20, 2015.

C. Federal Reserve Bank of Minneapolis (Jacquelyn K. Brunmeier, Assistant Vice President) 90 Hennepin Avenue, Minneapolis, Minnesota 55480-0291:

1. SSB, Inc., Manistique, Michigan; to acquire through State Savings Bank of Manistique, Manistique, Michigan, between 10 and 20 percent of the stock of Lasco Development Corporation, Marquette, Michigan. And thereby engage in data processing activities, pursuant to section 225.28(b)(14) of Regulation Y.

Board of Governors of the Federal Reserve System, February 19, 2015.
Michael J. Lewandowski,
Assistant Secretary of the Board.

[FR Doc. 2015-03720 Filed 2-23-15; 8:45 am]

BILLING CODE 6210-01-P